NUCLEAR REGULATORY COMMISSION

[NRC-2017-0164]

New ListServ for Waste Incidental to Reprocessing (WIR) Program Documents

AGENCY: Nuclear Regulatory Commission.

ACTION: Notice of process change; issuance.

SUMMARY: The U.S. Nuclear Regulatory Commission (NRC) is issuing a notice regarding a process change. The NRC is migrating to a ListServ, to distribute emails with links to publicly-available documents related to the Waste Incidental to Reprocessing (WIR) Program. The current method of using email lists will be discontinued. If a member of the public does not currently receive such NRC emails and they would like to receive those NRC emails in the future, then they need to voluntarily sign-up for the WIR ListServ via a link to the NRC Public Web site. The instructions for signing up for the WIR ListServ are provided in this Federal Register notice.

ADDRESSES: Please refer to Docket ID NRC-2017-0164 when contacting the NRC about the availability of information regarding this document. You may obtain publicly-available information related to this document using any of the following methods:

• Federal Rulemaking Web site: Go to http://www.regulations.gov and search for Docket ID NRC-2017-0164. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Harry Felsher, Office of Nuclear Material Safety and Safeguards, U.S. Nuclear Regulatory Commission, Washington, DC 20555-0001; telephone: 301-415-6559; email: Harry.Felsher@nrc.gov.

SUPPLEMENTARY INFORMATION: For those members of the public who are currently on the NRC WIR email list and already receive NRC emails with links to publicly-available WIR Program documents, your email address has already been transferred to the WIR ListServ and you do not need to do anything to continue to receive those NRC emails in the future. If any other member of the public would like to start receiving NRC emails with a link to future publicly-available WIR Program documents, then they need to voluntarily sign-up for the WIR LIstServ using the link and instructions provided below.

The only way to sign-up for the WIR ListServ is to: (1) Go to the following Web page on the NRC Public Web site: https://www.nrc.gov/public-involve/listserver.html, (2) scroll down to the section entitled “Lyris Subscription Services,” (3) enter the email address where you want to receive the NRC WIR ListServ emails, (4) check the box entitled “Waste Incidental to Reprocessing (WIR),” and (5) click “Subscribe.”

Note that after you are subscribed to an NRC ListServ, you will receive an email from the NRC indicating which ListServ you have subscribed to, which email address you used to subscribe to that ListServ, and instructions on how you can unsubscribe to that ListServ, if desired. You are responsible for ensuring that the ListServ has your current email address.

Dated at Rockville, Maryland this 10th day of July 2017.
For the Nuclear Regulatory Commission.
Andrea Kock,
Deputy Director, Division of Decommissioning, Uranium Recovery and Waste Programs, Office of Nuclear Material Safety and Safeguards.

[FR Doc. 2017-15145 Filed 7-18-17; 8:45 am]

BILLING CODE 7590-01-P